DEPARTMENT OF HEALTH AND HUMAN SERVICES

Centers for Disease Control and Prevention

[30Day-10-0761]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Randomized Controlled Trial of Routine Screening for Intimate Partner Violence—Revision—National Center for Injury Prevention and Control (NCIPC), Centers for Disease Control and Prevention (CDC).

Background and Brief Description

The Centers for Disease Control and Prevention (CDC) requests OMB approval of revisions to a currently approved collection entitled “Randomized Controlled Trial of Routine Screening for Intimate Partner Violence” (approved 01/24/2008; expiration date 01/29/2011). The proposed changes are a result of findings from the Pretest that showed high numbers of Spanish speakers at recruitment clinics, a higher prevalence of reported exposure to intimate partner violence (IPV), and redundancy of the 20-item mental health scale with other measures being used. As a result, we are requesting approval to extend trial inclusion criteria to Spanish speakers, a reduction in sample size, and deletion of a 20-question mental health scale. These last two changes will result in a decrease in burden to respondents. In addition, we are requesting an extension of three years to complete this information collection. The overarching purpose of the information collection has not changed nor are there substantial changes to the study methods.

The revisions requested will reduce annual burden by 410 hours. Deletion of the mental health scale will reduce the burden response by 2 minutes; the reduction of sample size will reduce number of respondents; and extension of information collection time will decrease annualized burden. The Pretest has already been conducted and the estimates of burden for the interview in the Main Study are based on results from the Pretest. Based on our new sample size estimates adjusted as a result of findings in the Pretest, in the Main Study, we will approach an estimated total of 3340 women to establish eligibility and recruit about 2675 (total) women. The annualized average response burden equals 308 hours, which is a reduction of 410 burden hours.

There is no cost to respondents.

Estimated Annualized Burden Hours
Type of respondents | Form name | Number of respondents | Number of responses per respondent | Avg. burden/ response (in hours)
Women Seeking Health Care Services | Eligibility Script for Pretest | 70 | 1 | 1/60
| Baseline Questionnaire Pretest | 65 | 1 | 15/60
| Follow-up Questionnaire Pretest | 59 | 1 | 12/60
| Eligibility Script for Main Study | 668 | 1 | 1/60
| Baseline Questionnaire Main Study | 535 | 1 | 16/60
| Follow-up Questionnaire Main Study (estimated 30% lost to follow-up) | 356 | 1 | 21/60

Dated: February 22, 2010.
Maryam I. Daneshvar,
Acting Reports Clearance Officer, Centers for Disease Control and Prevention.

[FR Doc. 2010-4001 Filed 2-25-10; 8:45 am]

BILLING CODE 4163-18-P